DEPARTMENT OF ENERGY

Federal Energy Regulatory Commission

[Docket No. PF08-13-000]

Southern Natural Gas Company; Supplemental Notice of Intent To Prepare An Environmental Assessment for the South System Expansion III Project and Request for Comments On Environmental Issues

August 7, 2008.

The staff of the Federal Energy Regulatory Commission (FERC or Commission) issued on May 16, 2008, a Notice of Intent to Prepare an Environmental Assessment (NOI) ¹ for the related natural gas pipeline projects proposed by Southern Natural Gas Company (SNG) for the South System Expansion III Project (SSEIII Project), Docket No. PF08-13-000; and by Southeast Supply Header, LLC (SESH) for the Joint Pipeline Expansion Phase II Project (JPE Phase II Project), Docket No. PF08-16-000. In documents filed July 31, 2008, SNG informed that it has modified the SSEIII Project by adding additional pipeline facilities in four areas, by changing the proposed facility constructed in one area, and by modifying the timeframe for construction of one facility, as described below. These modifications were made as a result of the changes in the transportation service requirements of SNG's customer, Georgia Power Company (Georgia Power). This supplemental NOI is being issued to notify the public about the modification to the SSEII Project and to request comments about the proposed modified facilities only. Please note that the scoping period for this supplemental NOI will close on September 8, 2008.

¹ The May 16, 2008 NOI for the projects as originally proposed is included in this supplemental NOI as an attachment. It may also be accessed via the FERC's eLibrary. Instructions about using eLibrary are included in this document on page 7.

The staff of the FERC will prepare an environmental assessment (EA) that will address the environmental impacts of the SSEIII Project proposed by SNG and the JPE Phase II Project proposed by SESH; together they are referred to as “the projects”. The Commission will use the EA in its decision-making process to determine whether or not to authorize the project. This notice explains the scoping process we ² will use to gather environmental input from the public and interested agencies on the projects. Your input will help the Commission determine the issues that need to be evaluated in the EA.

² “We,” “us,” and “our” refer to the environmental staff of the FERC's Office of Energy Projects.

Details on how to submit written comments are provided in the Public Participation section of this notice.

If you are a landowner receiving this supplemental NOI, you may be contacted by a pipeline company representative about the acquisition of an easement to construct, operate, and maintain the proposed project facilities. The pipeline company would seek to negotiate a mutually acceptable agreement for its project. However, if the projects are approved by the Commission, that approval conveys with it the right of eminent domain. Therefore, if easement negotiations fail to produce an agreement, the pipeline company could initiate condemnation proceedings in accordance with state law.

This supplemental NOI is being sent to affected landowners; federal, state, and local government agencies; elected officials; environmental and public interest groups; Native American tribes; other interested parties; and local libraries and newspapers where the modified facilities are proposed. We encourage government representatives to notify their constituents of this planned project and encourage them to comment on their areas of concern.

A fact sheet prepared by the FERC entitled “An Interstate Natural Gas Facility on My Land? What Do I Need To Know?” is available for viewing on the FERC Internet Web site (http://www.ferc.gov). This fact sheet addresses a number of typically asked questions, including the use of eminent domain and how to participate in the FERC's proceedings.

Summary of the Proposed Project

The original SSEIII Project and the JPE Phase II Project descriptions are in the May 16, 2008 NOI and will not be repeated in this Supplemental NOI. Only the modified facilities proposed by SNG are described herein.

SNG proposes to construct, own, operate, and maintain certain natural gas transportation facilities within the states of Georgia, Alabama, and Mississippi for the SSEIII Project. The general locations of the proposed pipeline and compression facilities are shown in the figure included as Appendix 1,³ and the modified and additional facilities for which this supplemental NOI is being issued, are identified in the red boxes. The purpose of the projects is to provide natural gas transportation service to Georgia Power's existing Plant McDonough. Georgia Power is converting the Plant McDonough electric generation from coal-fueled to natural gas-fueled. The SSEIII Project would increase pipeline capacity on SNG's existing system to serve Georgia Power, and SESH's proposed JPE Phase II Project would provide the required additional upstream transportation capacity.

³ The appendices referenced in this notice are not being printed in the Federal Register. Copies of all appendices, other than Appendix 1 (maps), are available on the Commission's Web site at the “eLibrary” link or from the Commission's Public Reference Room, 888 First Street, NE., Washington, DC 20426, or call (202) 502-8371. For instructions on connecting to eLibrary refer to the Public Participation section of this notice. Copies of the appendices were sent to all those receiving this notice in the mail. Requests for detailed maps of the proposed facilities should be made directly to SNG or SESH.

SSEIII Project

SNG proposes to construct the SSEIII Project in three phases. In addition to the listed facilities, SNG would install a cathodic protection system to mitigate pipeline corrosion, an AC mitigation system where the pipeline would be near high voltage power lines, ten pig launchers or receivers, and four mainline valves.

Phase I would be constructed entirely within the state of Georgia. SNG has proposed no changes to the Phase I facilities or to the timing of construction of the Phase I facilities. Refer to the May 16, 2008 NOI for their description.

Phase II facilities would be constructed within the state of Mississippi and Alabama. SNG has not proposed changes to the timing of construction of the Phase II facilities. However, it has proposed additional pipeline construction which is described below. Refer to the May 16, 2008 NOI for the description of the original facilities.

• The South Main Third Loop Line (Gwinville Loop): An additional 4.75 miles of 36-inch-diameter pipeline loop constructed adjacent to SNG's existing South Main System in Jefferson Davis and Simpson Counties, Mississippi, bringing the total length of the Gwinville Loop to about 14.3 miles (MPs 0.0 to 14.3).⁴ The Gwinville Loop would extend eastward from SNG's existing Gwinville Compressor Station (MP 0.0) towards the existing Bay Springs Compressor Station.

⁴ The originally proposed length of the Gwinville Loop was 9.5 miles.

• The South Main Third Loop Line (Enterprise Loop): an additional 4.9 miles of 36-inch-diameter pipeline loop constructed adjacent to SNG's existing 30-, 24-, and 18-inch-diameter pipelines in Lauderdale County, Mississippi, and Choctaw and Sumter Counties, Alabama, bringing the total length of the Enterprise Loop to about 7.7 miles (MPs 89.6 to 97.5).⁵ The Enterprise Loop would be constructed between SNG's existing Enterprise and York Compressor Stations. The Enterprise Loop was originally proposed as a Phase III facility, but SNG now proposes to construct it during Phase II due to the modified requirements of Georgia Power.

⁵ The originally proposed length of the Enterprise Loop was 2.8 miles.

Phase III facilities would be constructed in the States of Mississippi, Alabama, and Georgia. SNG has not proposed changes to facilities in the State of Georgia or to the timing of construction of the Phase III facilities. However, it has proposed additional or modified Phase III facilities in the States of Mississippi and Alabama which are described below. Refer to the May 16, 2008 NOI for the description of the original facilities.

• The South Main Third Loop Line (Bay Springs Loop): A new 2.4-mile-long, 36-inch-diameter pipeline loop between the existing Bay Springs and Enterprise Compressor Stations constructed adjacent to SNG's existing 30-, 24-, and 18-inch-diameter pipelines in Clarke County, Mississippi (MPs 64.8 to 67.2).

• The South Main Fourth Loop Line (Gallion Loop): An additional 3.25 miles of 36-inch-diameter pipeline loop constructed adjacent to SNG's existing 30-, 24-, and dual 18-inch-diameter pipelines in Hale and Perry Counties, Alabama, bringing the total length of the Gallion Loop to about 9.75 miles (MPs 149.9 to 159.7).⁶ The Gallion Loop would be constructed between SNG's existing Gallion and Selma Compressor Stations.

⁶ The originally proposed length of the Gallion Loop was 6.5 miles.

• The South Main Replacement (Elmore Replacement): Rather than constructing a pipeline loop along this segment of the SSEIII Project, SNG now proposes to replace 11.7 miles of 16-inch-diameter pipeline with 42-inch-diameter pipeline in Elmore County, Alabama (MPs 221.6 to 233.3). The Elmore Replacement would be constructed between SNG's existing Elmore and Auburn Compressor Stations and would be adjacent to SNG's existing 30-, 24-, and 18-inch-diameter pipelines.

Land Requirements for Construction

SSEIII Project

The typical construction right-of-way width for the SSEIII Project pipelines would vary between 90 and 100 feet. The majority of this construction right-of-way, however, would overlap the existing permanent rights-of-way of the adjacent pipelines. Therefore, between zero and 55 feet of additional temporary right-of-way width would be required for construction. The typical construction right-of-way width through wetlands would be reduced to 75 feet. Following construction, SNG would retain between zero and 25 feet of additional permanent right-of-way for operation.⁷

⁷ Refer to the May 16, 2008 NOI for information about construction and operation of proposed aboveground facilities. SNG's facilities modified in its July 31, 2008 filing do not include any changes to proposed aboveground facilities.

Additional temporary extra workspaces beyond the typical construction right-of-way limits would be required at certain feature crossings (e.g., roads, railroads, wetlands, or waterbodies, utilities), in areas with steep side slopes, in association with special construction techniques, for topsoil segregation, and for pipe, equipment, and contractor yards. SNG would access its project construction areas primarily along the existing pipeline right-of-way and existing roads; however, other access roads may be required during construction.

Based on preliminary information, construction of all of SNG's proposed project facilities would require about 984.0 acres including a proposed meter station. Operation of the SSEIII Project would require about 57.1 acres as permanent right-of-way that would be restored as open or industrial land where aboveground facilities would be operated. The remaining 926.9 acres of temporary workspaces would be restored and would return to previous land use. These totals do not include the temporary land requirements for access roads or contractor, pipe, or equipment yards.⁸

⁸ The original project would have required about 867.5 acres for construction and about 45.4 acres operation as permanent right-of-way.

The EA Process

The National Environmental Policy Act (NEPA) requires the Commission to take into account the environmental impacts that could result from an action when it considers whether or not an interstate natural gas pipeline should be approved. The FERC will use the EA to consider the environmental impact that could result if the Projects are authorized under section 7 of the Natural Gas Act. NEPA also requires us to discover and address concerns the public may have about proposals to be considered by the Commission. This process is referred to as “scoping.” The main goal of the scoping process is to focus the analysis in the EA on the important environmental issues. With this Notice of Intent, the Commission staff is requesting public comments on the scope of the issues to be addressed in the EA. All comments received will be considered during preparation of the EA.

In the EA we will discuss impacts that could occur as a result of the construction and operation of the proposed project under these general headings:

• Geology and soils;

• land use;

• water resources, fisheries, and wetlands;

• cultural resources;

• vegetation and wildlife;

• threatened and endangered species;

• air quality and noise;

• hazardous waste; and

• public safety.

In the EA, we will also evaluate possible alternatives to the proposed projects or portions of the projects, and make recommendations on how to lessen or avoid impacts on affected resources.

Although no formal application has been filed, the FERC staff has already initiated its NEPA review under its NEPA Pre-filing Process. The purpose of the Pre-filing Process is to encourage the early involvement of interested stakeholders and to identify and resolve issues before an application is filed with the FERC.

Public Participation

You can make a difference by providing us with your specific comments or concerns about SSEIII Project. Your comments should focus on the potential environmental effects, reasonable alternatives, and measures to avoid or lessen environmental impacts. The more specific your comments, the more useful they will be. To ensure that your comments are timely and properly recorded, please send in your comments so that they will be received in Washington, DC on or before September 8, 2008.

For your convenience, there are three methods which you can use to submit your comments to the Commission. In all instances please reference the project docket number, PF08-13-000, with your submission. The Commission encourages electronic filing of comments and has dedicated eFiling expert staff available to assist you at 202-502-8258 or efiling@ferc.gov.

(1) You may file your comments electronically by using the Quick Comment feature, which is located on the Commission's internet Web site at http://www.ferc.gov under the link to Documents and Filings. A Quick Comment is an easy method for interested persons to submit text-only comments on a project;

(2) You may file your comments electronically by using the eFiling feature, which is located on the Commission's internet Web site at http://www.ferc.gov under the link to Documents and Filings. eFiling involves preparing your submission in the same manner as you would if filing on paper, and then saving the file on your computer's hard drive. You will attach that file as your submission. New eFiling users must first create an account by clicking on “Sign up” or “eRegister.” You will be asked to select the type of filing you are making. A comment on a particular project is considered a “Comment on a Filing;” or

(3) You may file your comments via mail to the Commission by sending an original and two copies of your letter to:

Kimberly D. Bose, Secretary, Federal Energy Regulatory Commission, 888 First St., NE., Room 1A, Washington, DC 20426.

Label one copy of the comments for the attention of Gas Branch 2, PJ11.2.

We might mail the EA for comment. If you are interested in receiving it, please return the Information Request (Appendix 2). If you do not return the Information Request, you will be taken off the mailing list.

Additional Information

Additional information about the project is available from the Commission's Office of External Affairs, at 1-866-208-FERC (3372) or on the FERC Internet Web site (http://www.ferc.gov) using the “eLibrary link.” Click on the eLibrary link, select “General Search” and enter the project docket number excluding the last three digits (i.e., PF06-1) in the “Docket Number” field. Be sure you have selected an appropriate date range. For assistance, please contact FERC Online Support at FERCOnlineSupport@ferc.gov or toll free at 1-866-208-3676, or TTY, contact (202) 502-8659. The eLibrary link on the FERC Internet Web site also provides access to the texts of formal documents issued by the Commission, such as orders, notices, and rule makings.

In addition, the FERC now offers a free service called eSubscription that allows you to keep track of all formal issuances and submittals in specific dockets. This can reduce the amount of time you spend researching proceedings by automatically providing you with notification of these filings, document summaries, and direct links to the documents. To register for this service, go to http://www.ferc.gov/esubscribenow.htm.

SNG has established an Internet Web site for the SSEIII Project at http://www.elpaso.com/sse3/default.shtm. The Web site includes a description of the project, a map of the proposed pipeline route, and contact information. You may also use SNG's toll-free telephone number, 1-800-622-4481 to ask questions about the SSEIII Project.

Kimberly D. Bose,
Secretary.

[FR Doc. E8-18727 Filed 8-12-08; 8:45 am]

BILLING CODE 6717-01-P